DEPARTMENT OF EDUCATION

[Docket No.: ED-2023-SCC-0213]

Agency Information Collection Activities; Comment Request; Evaluation of Full-Service Community Schools

AGENCY: Institute of Education Sciences (IES), Department of Education (ED).

ACTION: Notice.

SUMMARY: In accordance with the Paperwork Reduction Act (PRA) of 1995, the Department is proposing a new information collection request (ICR).

DATES: Interested persons are invited to submit comments on or before February 16, 2024.

ADDRESSES: To access and review all the documents related to the information collection listed in this notice, please use http://www.regulations.gov by searching the Docket ID number ED-2023-SCC-0214. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Erica Johnson, 202-453-7381.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Full-Service Community Schools.

OMB Control Number: 1850-NEW.

Type of Review: A new ICR.

Respondents/Affected Public: Private sector; State, local, and Tribal governments.

Total Estimated Number of Annual Responses: 566.

Total Estimated Number of Annual Burden Hours: 511.

Abstract: The Full-Service Community Schools program, funded through title IV of the Elementary and Secondary Education Act, seeks to improve student outcomes by leveraging partnerships to help schools provide coordinated and integrated wraparound services to students and families, particularly in high-poverty schools. This study will be the first implementation evaluation of the Full-Service Community Schools program.

This Information Collection Request (ICR) follows the related June 2023 ICR that OMB approved (1850-0981) to conduct an initial survey of FY 2022 Full-Service Community Schools grantees. This ICR seeks approval to conduct additional rounds of data collection focused on helping policymakers and the community schools field better understand how program implementation is playing out. Included in these data collection are a follow-up survey of the FY 2022 grantees, a baseline and interim survey of the newly-awarded FY 2023 grantees and their partner schools, and one round of administrative data from states and districts that oversee FY 2023 partner schools.

Dated: December 13, 2023.
Juliana Pearson,
PRA Coordinator, Strategic Collections and Clearance, Governance and Strategy Division, Office of Chief Data Officer, Office of Planning, Evaluation and Policy Development.

[FR Doc. 2023-27726 Filed 12-15-23; 8:45 am]

BILLING CODE 4000-01-P